DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Philadelphia, Pennsylvania, and Los Angeles, California. The purpose of this notice is to announce publicly the environmental decisions by FTA on the subject projects and to activate the limitation on any claims that may challenge these final environmental actions.

DATES: By this notice, FTA is advising the public of final agency actions subject to 23 U.S.C. 139(l). A claim seeking judicial review of FTA actions announced herein for the listed public transportation projects will be barred unless the claim is filed on or before August 5, 2021.

FOR FURTHER INFORMATION CONTACT: Micah M. Miller, Regional Counsel, Office of Chief Counsel, (404) 865-5474 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA environmental project file for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA [42 U.S.C. 4321-4375], Section 4(f) requirements [23 U.S.C. 138, 49 U.S.C. 303], Section 106 of the National Historic Preservation Act [54 U.S.C. 306108], Endangered Species Act [16 U.S.C. 1531], Clean Water Act [33 U.S.C. 1251], the Uniform Relocation and Real Property Acquisition Policies Act [42 U.S.C. 4601], and the Clean Air Act [42 U.S.C. 7401-7671q]. This notice does not, however, alter or extend the limitation period for challenges of project decisions subject to previous notices published in the Federal Register. The projects and actions that are the subject of this notice follow:

1. Project name and location: King of Prussia Rail Extension Project, Upper Merion Township, Montgomery County and Upper Darby Township, Delaware County, Pennsylvania. Project Sponsor: Southeastern Pennsylvania Transportation Authority, Philadelphia, Pennsylvania. Project description: The project will extend existing Norristown High Speed Line service to the King of Prussia-Valley Forge area of Upper Merion Township, Montgomery County, PA, by approximately 3.5 miles. The project consists of a new elevated double-track guideway and construction of associated facilities to support the project operations, including guideway crossover tracks, traction powered substations, communications equipment, stormwater management facilities, and landscaping. The project also involves construction of five new stations, including two new park-and-ride facilities in the vicinity of Valley Forge Casino resort and Henderson Road Station, in Montgomery and Delaware County, PA, and renovation of the existing 69th Street Transportation Center to accommodate the project. Final agency action: Section 4(f) use determination, dated January 08, 2021; executed Section 106 Memorandum of Agreement, dated November 25, 2020; King of Prussia Rail Extension Project Combined Final Environmental Impact Statement (FEIS)/Record of Decision (ROD), dated January 08, 2021. Supporting Documentation: King of Prussia Rail Extension Project Draft Environmental Impact Statement (DEIS), dated, October 3, 2017. The Combined FEIS/ROD and associated documents can be viewed and downloaded from: https://www.kingofprussiarail.com/feis.

2. Project name and location: East Fernando Valley Transit Corridor Project, Los Angeles County, California. Project Sponsor: Los Angeles County Metropolitan Transportation Authority (LACMTA). Project description: The East San Fernando Valley Transit Corridor Project consists of a 9.2 mile, at-grade light rail transit (LRT) system with 14 stations. Under the project, the LRT would be powered by electrified overhead lines and would travel 2.5 miles along the LACMTA-owned right-of-way used by the Antelope Valley Metrolink line and Union Pacific Railroad from the Sylmar/San Fernando Metrolink Station south to Van Nuys Boulevard. As the Project approaches Van Nuys Boulevard, it would transition to and operate in a median dedicated guideway in the median of Van Nuys Boulevard for approximately 6.7 miles south to the Metro G Line Van Nuys Station. Additionally, the project involves a construction of a Maintenance and Storage Facility (MSF) on the west side of Van Nuys Boulevard on approximately 25 acres, bounded by Keswick Street on the south, Raymer Street on the east and north, and the Pacoima Wash on the west. Final agency actions: Section 4(f) no use determination; Section 106 finding of no adverse effect with conditions, dated October 19, 2020; and East Fernando Valley Transit Corridor Project Record of Decision (ROD), dated January 29, 2021. Supporting documentation: East Fernando Valley Transit Corridor Project Final Environmental Impact Statement (FEIS), dated, September 21, 2020. The FEIS, ROD and associated documents can be viewed and downloaded from: https://www.metro.net/projects/east-sfv/.

Authority: 23 U.S.C. 139(l)(1).

Mark A. Ferroni,
Deputy Associate Administrator for Planning and Environment.

[FR Doc. 2021-04700 Filed 3-5-21; 8:45 am]

BILLING CODE P